DEPARTMENT OF DEFENSE

Department of the Army

Performance Review Board Membership for the U.S. Army Corps of Engineers

AGENCY: Department of the Army, DoD.

ACTION: Notice.

SUMMARY: Notice is given of the names of members of a Performance Review Board for the Department of the Army.

EFFECTIVE DATE: December 3, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Corps of Engineers are:

1. MG Robert Griffin (Chair), Deputy Chief of Engineers and Deputy Commanding General.

2. Dr. James Houston, Director, Engineer Research and Development Center.

3. BG Robert Crear, Commander, Southwestern Division.

4. Mr. Thomas F. Caver, Deputy Director, Directorate of Civil Works.

5. Ms. Patricia Rivers, Chief Environmental Division, Directorate of Military Programs.

6. Mr. Stephen Coakley, Director of Resource Management.

7. Mr. Steven Stockton, Civil Works and Management Director, South Pacific Division.

8. Mr. Frank Oliva, Civil Works and Technical Director, Pacific Ocean Division.

Luz D. Ortiz,
Army Federal Register Liaison Officer.

[FR Doc. 03-30366 Filed 12-5-03; 8:45 am]

BILLING CODE 3710-08-M